DEPARTMENT OF DEFENSE

Office of the Secretary

[Transmittal No. 25-0C]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-0C.

Dated: January 29, 2026.
Stephanie J. Bost,
Alternate OSD Federal Register Liaison Officer, Department of Defense.

BILLING CODE 6001-FR-P

BILLING CODE 6001-FR-P

Transmittal No. 25-0C

REPORT OF ENHANCEMENT OR UPGRADE OF SENSITIVITY OF TECHNOLOGY OR CAPABILITY (SEC. 36(B)(5)(C), AECA)

(i) Purchaser: Government of Israel

(ii) Sec. 36(b)(1), AECA Transmittal No.: 12-69

Date: December 14, 2012

Implementing Agency: Air Force

Funding Source: Foreign Military Financing

(iii) Description: On December 14, 2012, Congress was notified by congressional certification transmittal number 12-69 of the possible sale, under Section 36(b)(l) of the Arms Export Control Act, of 6,900 Joint Direct Attack Munitions (JDAM) tail kits (which include 3,450 JDAM Anti-Jam KMU-556 (GBU-31) for MK-84 warheads; 1,725 KMU-557 (GBU-31) for BLU-109 warheads and 1,725 KMU-572 (GBU-38) for MK-82 warheads); 3,450 MK-84 2000 lb General Purpose Bombs; 1,725 MK-82 500 lb General Purpose Bombs; 1,725 BLU-109 Bombs; 3,450 GBU-39 Small Diameter Bombs; 11,500 FMU-139 Fuses; 11,500 FMU-143 Fuses; and 11,500 FMU-152 Fuses. Also included were spare and repair parts, support equipment, personnel training and training equipment, publications and technical documentation, United States (U.S.) Government and contractor engineering and technical support, and other related elements of program support. The estimated total cost was $647 million. Major Defense Equipment (MDE) constituted $466 million of this total.

On November 29, 2017, Congress was notified by congressional certification transmittal number 0S-17 of the supplemented description of JDAM tail kit component KMU-556 (GBU-31) for MK-84 warheads, KMU-557 (GBU-31) for BLU-109 warheads and KMU-572 (GBU-38) for MK-82 warheads as either C/B or E/B variants (MDE items). The supplementation of this information did not result in a change to the estimated MDE cost of $466 million. The estimated total case value remained at $647 million.

This transmittal notifies an increase in MDE value by $624 million and non-MDE value by $269 million, due to recent cost increases. There are no additional MDE or non-MDE items being reported with this notification. The estimated total case value will increase by $893 million to $1.54 billion. MDE will constitute $1.09 billion of this total.

(iv) Significance: Recent cost increases have brought about the need to add value to the original notification. The proposed value increase will improve Israel's capability to meet current and future threats.

(v) Justification: This proposed sale will support the foreign policy goals and national security of the U.S. by improving the security of a strategic regional partner that is a force for political and economic stability in the Middle East.

(vi) Sensitivity of Technology:

The Sensitivity of Technology Statement contained in the original notification applies to items reported here.

The highest level of classification of defense articles, components, and services included in this potential sale is SECRET.

(vii) Date Report Delivered to Congress: February 28, 2025

[FR Doc. 2026-02053 Filed 1-30-26; 8:45 am]

BILLING CODE 6001-FR-P